DEPARTMENT OF TRANSPORTATION

Federal Aviation Administration

14 CFR Part 39

[Docket No. FAA-2013-0418; Directorate Identifier 2012-NM-200-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 series airplanes; Model A300 B4-600, B4-600R, and F4-600R series airplanes, and Model A300 C4-605R Variant F airplanes (collectively called Model A300-600 series airplanes). This proposed AD was prompted by a report that cracking was found in area 2 of the frame base fittings between frame 41 and frame 46. This proposed AD would require a check of maintenance records to determine if certain repairs were done in area 1 of the frame brace fittings, and, for affected airplanes, a detailed inspection for cracking in area 2 of the frame base fittings between frame 41 and frame 46, and repair if necessary. We are proposing this AD to detect and correct cracking in area 2 of the frame base fittings between frame 41 and frame 46, which could adversely affect the structural integrity of the airplane.

DATES: We must receive comments on this proposed AD by June 28, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; phone: 425-227-2125; fax: 425-227-1149.

SUPPLEMENTARY INFORMATION:

Comments Invited

We invite you to send any written relevant data, views, or arguments about this proposed AD. Send your comments to an address listed under the ADDRESSES section. Include “Docket No. FAA-2013-0418; Directorate Identifier 2012-NM-200-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0229, dated October 31, 2012 (referred to after this as the Mandatory Continuing Airworthiness Information, or “the MCAI”), to correct an unsafe condition for the specified products. The MCAI states:

During accomplishment of Airbus SB [service bulletin] A300-53-6111, which addresses detailed visual inspections of the lower frame fittings between Frame (FR) 41 and FR 46, on one A300-600 aeroplane a crack was detected in the area 2 of the foot of frame FR 46 at junction radius level.

This frame, that was previously repaired due to a crack finding in the area 1, was not due to be inspected before reaching the post-repair inspection threshold, i.e., 45,400 FC [flight cycles], from repair embodiment.

It has been determined that the current repairs proposed in Airbus SB A300-53-6111 and Airbus [SB] A300-53-0337 are of limited effect to prevent cracking in the area 2 of the lower frame fittings.

Consequently, as a temporary action and until an improvement of the existing repairs is made available, this [EASA] AD requires a one-time detailed visual inspection [for cracking] of [the] frame base fittings that were repaired in accordance with Airbus SB A300-53-0337, original issue or Rev. 1, or Airbus SB A300-53-6111 original issue up to Rev. 4 * * *.

The unsafe condition is cracking in the frame base fittings, which could adversely affect the structural integrity of the airplane. The required actions include repairing any cracking found. You may obtain further information by examining the MCAI in the AD docket.

Relevant Service Information

Airbus has issued Alert Operators Transmission (AOT) A53W001-12, dated July 4, 2012, including Appendices 1, 2, and 3. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI

Although EASA AD 2012-0229, dated October 31, 2012, specifies to contact the manufacturer for instructions to repair certain conditions, this proposed AD would require repairing those conditions using a method approved by either the Manager, International Branch, ANM-116, Transport Airplane Directorate, FAA; or EASA (or its delegated agent).

Costs of Compliance

Based on the service information, we estimate that this proposed AD would affect about 124 products of U.S. registry. We also estimate that it would take about 4 work-hours per product to comply with the basic requirements of this proposed AD. The average labor rate is $85 per work-hour. Based on these figures, we estimate the cost of the proposed AD on U.S. operators to be $42,160, or $340 per product.

In addition, we estimate that any necessary follow-on actions would take up to 350 work-hours and require parts costing up to $56,469 for a cost of $86,219 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0418; Directorate Identifier 2012-NM-200-AD.

(a) Comments Due Date

We must receive comments by June 28, 2013.

(b) Affected ADs

None.

(c) Applicability

This AD applies to the airplanes identified in paragraphs (c)(1) and (c)(2) of this AD, certificated in any category.

(1) Airbus Model A300 B2-1A, B2-1C, B2K-3C, B2-203, B4-2C, B4-103, and B4-203 airplanes, on which any repair has been done as specified in Airbus Service Bulletin A300-53-0337, dated February 4, 1999; or Airbus Service Bulletin A300-53-0337, Revision 01, dated March 17, 2003.

(2) Airbus Model A300 B4-601, B4-603, B4-620, and B4-622 airplanes, Model A300 B4-605R and B4-622R airplanes, Model A300 F4-605R and F4-622R airplanes, and A300 C4-605R Variant F airplanes, on which any repair has been done as specified in any of the service information identified in paragraphs (c)(2)(i), (c)(2)(ii), (c)(2)(iii), (c)(2)(iv), and (c)(2)(v) of this AD.

(i) Airbus Service Bulletin A300-53-6111, dated February 4, 1999.

(ii) Airbus Service Bulletin A300-53-6111, Revision 01, dated March 17, 2003.

(iii) Airbus Service Bulletin A300-53-6111, Revision 02, dated September 13, 2004.

(iv) Airbus Service Bulletin A300-53-6111, Revision 03, dated September 30, 2009.

(v) Airbus Mandatory Service Bulletin A300-53-6111, Revision 04, dated August 25, 2011.

(d) Subject

Air Transport Association (ATA) of America Code 53, Fuselage.

(e) Reason

This AD was prompted by a report that cracking was found in area 2 of the frame base fittings between frame 41 and frame 46. We are issuing this AD to detect and correct cracking in area 2 of the frame base fittings between frame 41 and frame 46, which could adversely affect the structural integrity of the airplane.

(f) Compliance

You are responsible for having the actions required by this AD performed within the compliance times specified, unless the actions have already been done.

(g) Maintenance Records Check and Frame Base Fitting Inspection

Within 1,000 flight hours after the effective date of this AD: Check the airplane maintenance records to determine if repairs were done in area 1 of the frame base fittings as defined in Appendix 1 of Airbus Alert Operators Transmission A53W001-12, dated July 4, 2012.

(h) Frame Base Fitting Inspection

If, during any records check required by paragraph (g) of this AD, it is determined that area 1 of the frame base fittings was repaired: Within 1,000 flight hours after the effective date of this AD do a detailed inspection of the frame base fittings between frame 41 and frame 46 in the area 2 defined in Appendix 1 of Airbus Alert Operators Transmission A53W001-12, dated July 4, 2012.

(i) Corrective Action

If any cracking is found during any detailed inspection required by paragraph (h) of this AD: Before further flight, repair the cracking using a method approved by the Manager, International Branch, ANM-116, Transport Airplane Directorate, FAA; or the European Aviation Safety Agency (EASA) (or its delegated agent).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; phone: 425-227-2125; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI EASA Airworthiness Directive 2012-0229, dated October 31, 2012; and Airbus Alert Operators Transmission A53W001-12, dated July 4, 2012, including Appendices 1 and 2, and excluding Appendix 3; for related information.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425 227-1221.

Issued in Renton, Washington, on May 6, 2013.
Ali Bahrami,
Manager, Transport Airplane Directorate, Aircraft Certification Service.

[FR Doc. 2013-11380 Filed 5-13-13; 8:45 am]

BILLING CODE 4910-13-P